DEPARTMENT OF TRANSPORTATION

Coast Guard

[USCG-2000-6780]

Collection of Information by Agency Under Review by Office of Management and Budget

AGENCY: Coast Guard, DOT.

ACTION: Request for comments.

SUMMARY: In compliance with the Paperwork Reduction Act of 1995, the Coast Guard intends to request the approval of the Office of Management and Budget (OMB) for the renewal of Information Collection Requests (ICRs). These ICRs comprise: (1) Security of Passenger Vessels and Passenger Terminals, (2) Plan/Drawing Approval and Records for Safety Valves—46 CFR part 162, (3) Vital System Automation—46 CFR parts 52, 56, 58, 61, 62, 110, 111, and 113, and (4) Marine Occupational Health and Safety Standards for Benzene. Before submitting the ICRs to OMB, the Coast Guard is asking for comments on the collections described below.

DATES: Comments must reach the Coast Guard on or before April 10, 2000.

ADDRESSES: You may mail comments to the Docket Management System (DMS) (USCG-2000-6780), U.S. Department of Transportation (DOT), room PL-401, 400 Seventh Street SW., Washington, DC 20590-0001, or deliver them to room PL-401, located on the Plaza Level of the Nassif Building at the same address between 9 a.m. and 5 p.m., Monday through Friday, except Federal holidays. The telephone number is 202-366-9329.

The Docket Management Facility maintains the public docket for this Request. Comments will become part of this docket and will be available for inspection or copying at room PL-401, located on the Plaza Level of the Nassif Building at the same address between 9 a.m. and 5 p.m., Monday through Friday, except Federal holidays. You may also access this docket on the Internet at http://dms.dot.gov.

Copies of the complete ICRs are available through this docket on the Internet at http://dms.dot.gov and also from Commandant (G-SII-2), U.S. Coast Guard Headquarters, room 6106 (Attn: Barbara Davis), 2100 Second Street SW., Washington, DC 20593-0001. The telephone number is 202-267-2326.

FOR FURTHER INFORMATION CONTACT: Barbara Davis, Office of Information Management, 202-267-2326, for questions on this document. With questions on the docket, ask Dorothy Walker, Chief, Documentary Services Division, U.S. Department of Transportation, 202-366-9330.

Request for Comments

The Coast Guard encourages interested persons to submit written comments. Persons submitting comments should include their names and addresses, identify this document (USCG-2000-6780) and the specific ICR to which each comment applies, and give the reason(s) for each comment. Please submit all comments and attachments in an unbound format no larger than 8½ by 11 inches, suitable for copying and electronic filing. Persons wanting acknowledgment of receipt of comments should enclose stamped, self-addressed postcards or envelopes.

Information Collection Requests

1. Title: Security of Passenger Vessels and Passenger Terminals.

OMB Control Number: 2115-0622.

Summary: The purpose of the rules on the security of passenger vessels and passenger terminals is to deter, or mitigate the results of, terrorism and other unlawful acts against such vessels and terminals. The rules should reduce the likelihood of such acts and should reduce the damage to property and injury to persons, if such acts occur.

Need: 33 U.S.C. 1231 authorizes the Coast Guard to issue rules for the program in ports and waters safety. 33 CFR, parts 120 and 128, contain the rules for the security for passenger vessels and passenger terminals regulations.

Respondents: Certain owners of passenger vessels and passenger terminals.

Frequency: On occasion.

Burden: The estimated burden is 1,811 hours annually.

2. Title: Plan/Drawing Approval and Records for Safety Valves—46 CFR part 162.

OMB Control Number: 2115-0525.

Summary: Requirements for submission of plans and drawings and test reports for safety equipment and materials are necessary so the Coast Guard can determine whether items meet minimum levels of safety and performance and whether they serve to identify the approved items.

Need: 46 U.S.C. 3306 authorizes the Coast Guard to promulgate rules for the safety of personnel and property on board vessels. Sections of 46 CFR part 162 contain rules on approval of plans and drawings for of safety valves.

Respondents: Equipment manufacturers.

Frequency: On occasion.

Burden: The estimated burden is 58 hours annually.

3. Title: Vital System Automation—46 CFR parts 52, 56, 58, 61, 62, 110, 111, and 113.

OMB Control Number: 2115-0548.

Summary: This collection pertains to the vital system automation on commercial vessels that is necessary to protect personnel and property on board U.S.-flag vessels.

Need: 46 U.S.C. 3306 authorizes the Coast Guard to promulgate rules for the safety of personnel and property on board vessels. Sections of 46 CFR parts 52, 56, 58, 62, 110, 111, and 113 contain rules on the automation of vital systems.

Respondents: Vessel designers, shipyards, manufacturers, and vessel owners.

Frequency: On occasion.

Burden: The estimated burden is 57,375 hours annually.

4. Title: Marine Occupational Health and Safety Standards for Benzene—46 CFR part 197, subpart C.

OMB Control Number: 2115-0586.

Summary: To protect marine workers from exposure to toxic Benzene vapor, the Coast Guard implemented 46 CFR part 197, subpart C.

Need: This information collection is vital to verifying compliance.

Respondents: Vessel owners and operators.

Frequency: On occasion.

Burden: The estimated burden is 59,775 hours annually

Dated: February 1, 2000.
G.N. Naccara,
Rear Admiral, U.S. Coast Guard, Director of Information and Technology.

[FR Doc. 00-2895 Filed 2-8-00; 8:45 am]

BILLING CODE 4910-15-P